DEPARTMENT OF HOMELAND SECURITY

Federal Emergency Management Agency

[Docket ID FEMA-2020-0002; Internal Agency Docket No. FEMA-B-2006]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Arkansas:
Pulaski | City of Little Rock (19-06-2539P). | The Honorable Frank D. Scott, Jr., Mayor, City of Little Rock, 500 West Markham Street, Room 203, Little Rock, AR 72201. | Public Works Department, 701 West Markham Street, Little Rock, AR 72201. | https://msc.fema.gov/portal/advanceSearch. | Apr. 13, 2020 | 050181
Pulaski | Unincorporated areas of Pulaski County (19-06-2539P). | The Honorable Barry Hyde, Pulaski County Judge, 201 South Broadway Street, Suite 400, Little Rock, AR 72201. | Pulaski County Public Works Department, 3200 Brown Street, Little Rock, AR 72204. | https://msc.fema.gov/portal/advanceSearch. | Apr. 13, 2020 | 050179
Colorado: Douglas | Unincorporated areas of Douglas County (19-08-0647P). | The Honorable Roger A. Partridge, Chairman, Douglas County Board of Commissioners, 100 3rd Street, Castle Rock, CO 80104. | Douglas County Department of Public Works, Engineering Division, 100 3rd Street, Castle Rock, CO 80104. | https://msc.fema.gov/portal/advanceSearch. | May 1, 2020 | 080049
Florida:
Collier | City of Marco Island (19-04-5064P). | Mr. Michael T. McNees, City of Marco Island Manager, 50 Bald Eagle Drive, Marco Island, FL 34145. | Building Services Department, 50 Bald Eagle Drive, Marco Island, FL 34145. | https://msc.fema.gov/portal/advanceSearch. | Mar. 13, 2020 | 120426
Gilchrist | Unincorporated areas of Gilchrist County (19-04-4501P). | The Honorable Todd Gray, Chairman, Gilchrist County Board of Commissioners, 3400 Southwest 22nd Place, Bell, FL 32619. | Gilchrist County Building and Zoning Department, 209 Southeast 1st Street, Trenton, FL 32693. | https://msc.fema.gov/portal/advanceSearch. | Apr. 17, 2020 | 120094
Indian River | City of Sebastian (19-04-6686P). | The Honorable Jim Hill Mayor, City of Sebastian, 1225 Main Street, Sebastian, FL 32958. | Community Development Department, 1225 Main Street, Sebastian, FL 32958. | https://msc.fema.gov/portal/advanceSearch. | Apr. 17, 2020 | 120123
Miami-Dade | City of Doral (19-04-4177P). | The Honorable Juan Carlos Bermudez, Mayor, City of Doral, 8401 Northwest 53rd Terrace, Doral, FL 33166. | City Hall, 8401 Northwest 53rd Terrace, Doral, FL 33166. | https://msc.fema.gov/portal/advanceSearch. | Apr. 10, 2020 | 120041
Monroe | Unincorporated areas of Monroe County (19-04-6355P). | The Honorable Sylvia Murphy, Mayor, Monroe County Board of Commissioners, 102050 Overseas Highway, Suite 234, Key Largo, FL 33037. | Monroe County Building Department, 2798 Overseas Highway, Suite 300, Marathon, FL 33050. | https://msc.fema.gov/portal/advanceSearch. | Apr. 7, 2020 | 125129
Polk | Unincorporated areas of Polk County (19-04-3814P). | The Honorable George Lindsey III, Chairman, Polk County Board of Commissioners, P.O. Box 9005, Drawer BC01, Bartow, FL 33831. | Polk County Land Development Division, 330 West Church Street, Bartow, FL 33830. | https://msc.fema.gov/portal/advanceSearch. | Apr. 23, 2020 | 120621
Sarasota | Unincorporated areas of Sarasota County (20-04-0229P). | The Honorable Charles D. Hines, Chairman, Sarasota County Board of Commissioners, 1660 Ringling Boulevard, Sarasota, FL 34236. | Sarasota County Planning and Development Services Department, 1001 Sarasota Center Boulevard, Sarasota, FL 34240. | https://msc.fema.gov/portal/advanceSearch. | Apr. 27, 2020 | 125144
Seminole | City of Sanford (19-04-1942P). | The Honorable Jeff Triplett, Mayor, City of Sanford, 300 North Park Avenue, Sanford, FL 32772. | City Hall, 300 North Park Avenue, Sanford, FL 32772. | https://msc.fema.gov/portal/advanceSearch. | Apr. 17, 2020 | 120294
Seminole | Unincorporated areas of Seminole County (19-04-1942P). | The Honorable Brenda Carey, Chair, Seminole County Board of Commissioners, 1101 East 1st Street, Sanford, FL 32771. | Seminole County Development Review Division, 1101 East 1st Street, Sanford, FL 32771. | https://msc.fema.gov/portal/advanceSearch. | Apr. 17, 2020 | 120289
Kentucky: Fayette | Lexington-Fayette Urban County Government (19-04-1650P). | The Honorable Linda Gorton, Mayor, Lexington-Fayette Urban County Government, 200 East Main Street, Lexington, KY 40507. | Lexington-Fayette Urban County Government Planning Division, 101 East Vine Street, 4th Floor, Lexington, KY 40502. | https://msc.fema.gov/portal/advanceSearch. | Mar. 31, 2020 | 210067
Massachusetts:
Essex | City of Gloucester (19-01-1679P). | The Honorable Sefatia Romeo Theken, Mayor, City of Gloucester, 9 Dale Avenue, Gloucester, MA 01930. | City Hall, 3 Pond Road, Gloucester, MA 01930. | https://msc.fema.gov/portal/advanceSearch. | Apr. 6, 2020 | 250082
Essex | Town of Andover (19-01-0700P). | Mr. Andrew P. Flanagan, Town of Andover Manager, 36 Bartlet Street, Andover, MA 01810. | Town Hall, 36 Bartlet Street, Andover, MA 01810. | https://msc.fema.gov/portal/advanceSearch. | May 1, 2020 | 250076
Mississippi: Lafayette | City of Oxford (19-04-0963P). | The Honorable Robyn Tannehill, Mayor, City of Oxford, 107 Courthouse Square, Oxford, MS 38655. | City Courthouse, 107 Courthouse Square, Oxford, MS 38655. | https://msc.fema.gov/portal/advanceSearch. | Mar. 25, 2020 | 280094
North Carolina:
Cumberland | Town of Hope Mills (18-04-6701P). | The Honorable Jackie Warner, Mayor, Town of Hope Mills, 5770 Rockfish Road, Hope Mills, NC 28348. | Town Hall, 5770 Rockfish Road, Hope Mills, NC 28348. | https://msc.fema.gov/portal/advanceSearch. | Mar. 6, 2020 | 370312
Cumberland | Unincorporated areas of Cumberland County (18-04-6701P). | The Honorable W. Marshall Faircloth, Chairman, Cumberland County Board of Commissioners, P.O. Box 1829, Fayetteville, NC 28302. | Cumberland County Engineering and Infrastructure Department, 130 Gillespie Street, Fayetteville, NC 28301. | https://msc.fema.gov/portal/advanceSearch. | Mar. 6, 2020 | 370076
Oklahoma:
Creek | City of Sapulpa (19-06-0851P). | The Honorable Reg Green, Mayor, City of Sapulpa, 425 East Dewey Avenue, Sapulpa, OK 74067. | GIS Mapping Department, 425 East Dewey Avenue, Sapulpa, OK 74067. | https://msc.fema.gov/portal/advanceSearch. | Mar. 16, 2020 | 400053
Creek | Unincorporated areas of Creek County (19-06-0851P). | The Honorable Leon Warner, Chairman, Creek County Commission, 10920 South Highway 99, Drumright, OK 74030. | Creek County Planning Department, 317 East Lee Avenue, Suite 101, Sapulpa, OK 74066. | https://msc.fema.gov/portal/advanceSearch. | Mar. 16, 2020 | 400490
Texas:
Bastrop | City of Bastrop (19-06-1419P). | The Honorable Connie Schroeder, Mayor, City of Bastrop, P.O. Box 427, Bastrop, TX 78602. | City Hall, 1311 Chestnut Street, Bastrop, TX 78602. | https://msc.fema.gov/portal/advanceSearch. | Apr. 17, 2020 | 480022
Bastrop | Unincorporated areas of Bastrop County (19-06-1419P). | The Honorable Paul Pape, Bastrop County Judge, 804 Pecan Street, Bastrop, TX 78602. | Bastrop County Engineering and Development Department, 211 Jackson Street, Bastrop, TX 78602. | https://msc.fema.gov/portal/advanceSearch. | Apr. 17, 2020 | 481193
Bexar | City of San Antonio (18-06-2883P). | The Honorable Ron Nirenberg, Mayor, City of San Antonio, P.O. Box 839966, San Antonio, TX 78283. | Transportation and Capital Improvements Department, Storm Water Division, 1901 South Alamo Street, 2nd Floor, San Antonio, TX 78204. | https://msc.fema.gov/portal/advanceSearch. | Mar. 9, 2020 | 480045
Bexar | City of San Antonio (19-06-0009P). | The Honorable Ron Nirenberg, Mayor, City of San Antonio, P.O. Box 839966, San Antonio, TX 78283. | Transportation and Capital Improvements Department, Storm Water Division, 1901 South Alamo Street, 2nd Floor, San Antonio, TX 78204. | https://msc.fema.gov/portal/advanceSearch. | Mar. 30, 2020 | 480045
Collin | City of Allen (19-06-0352P). | The Honorable Stephen Terrell, Mayor, City of Allen, 305 Century Parkway, 1st Floor, Allen, TX 75013. | City Hall, 305 Century Parkway, Allen, TX 75013. | https://msc.fema.gov/portal/advanceSearch. | Mar. 13, 2020 | 480131
Collin | City of Allen (19-06-2793P). | The Honorable Stephen Terrell, Mayor, City of Allen, 305 Century Parkway, 1st Floor, Allen, TX 75013. | City Hall, 305 Century Parkway, Allen, TX 75013. | https://msc.fema.gov/portal/advanceSearch. | Apr. 10, 2020 | 480131
Collin | City of Celina (19-06-2646P). | The Honorable Sean Terry, Mayor, City of Celina, 142 North Ohio Street, Celina, TX 75009. | City Hall, 142 North Ohio Street, Celina, TX 75009. | https://msc.fema.gov/portal/advanceSearch. | Mar. 16, 2020 | 480133
Collin | City of Plano (19-06-1989P). | The Honorable Harry LaRosiliere, Mayor, City of Plano, 1520 K Avenue, Suite 300, Plano, TX 75074. | Department of Engineering, 1520 K Avenue, Suite 250, Plano, TX 75074. | https://msc.fema.gov/portal/advanceSearch. | Apr. 3, 2020 | 480140
Dallas | City of Dallas (19-06-2679P). | The Honorable Eric Johnson, Mayor, City of Dallas, 1500 Marilla Street, Suite 5EN, Dallas, TX 75201. | Floodplain Management Department, 320 East Jefferson Boulevard, Room 307, Dallas, TX 75203. | https://msc.fema.gov/portal/advanceSearch. | Mar. 16, 2020 | 480171
Denton and Tarrant | City of Fort Worth (19-06-2492P). | The Honorable Betsy Price, Mayor, City of Fort Worth, 200 Texas Street, Fort Worth, TX 76102. | Transportation and Public Works Department, 200 Texas Street, Fort Worth, TX 76102. | https://msc.fema.gov/portal/advanceSearch. | Mar. 16, 2020 | 480596
Denton | City of Fort Worth (20-06-0236P). | The Honorable Betsy Price, Mayor, City of Fort Worth, 200 Texas Street, Fort Worth, TX 76102. | Transportation and Public Works Department, 200 Texas Street, Fort Worth, TX 76102. | https://msc.fema.gov/portal/advanceSearch. | Mar. 31, 2020 | 480596
Denton | City of Highland Village (19-06-1117P). | The Honorable Charlotte Wilcox, Mayor, City of Highland Village, 1000 Highland Village Road, Highland Village, TX 75077. | City Hall, 1000 Highland Village Road, Highland Village, TX 75077. | https://msc.fema.gov/portal/advanceSearch. | Apr. 10, 2020 | 481105
Denton | Town of Copper Canyon (19-06-1117P). | The Honorable Ron Robertson, Mayor, Town of Copper Canyon, 400 Woodland Drive, Copper Canyon, TX 75077. | Town Hall, 400 Woodland Drive, Copper Canyon, TX 75077. | https://msc.fema.gov/portal/advanceSearch. | Apr. 10, 2020 | 481508
Denton | Unincorporated areas of Denton County (20-06-0236P). | The Honorable Andy Eads, Denton County Judge, 110 West Hickory Street, 2nd Floor, Denton, TX 76201. | Denton County Transportation and Public Works Department, 1505 East McKinney Street, Suite 175, Denton, TX 76209. | https://msc.fema.gov/portal/advanceSearch. | Mar. 31, 2020 | 480774
Harris | Unincorporated areas of Harris County (19-06-1720P). | The Honorable Lina Hidalgo, Harris County Judge, 1001 Preston Street, Suite 911, Houston, TX 77002. | Harris County Permit Office, 10555 Northwest Freeway, Suite 120, Houston, TX 77092. | https://msc.fema.gov/portal/advanceSearch. | Apr. 6, 2020 | 480287
Tarrant | City of Benbrook (19-06-3260P). | The Honorable Jerry B. Dittrich, Mayor, City of Benbrook, 911 Winscott Road, Benbrook, TX 76126. | City Hall, 911 Winscott Road, Benbrook, TX 76126. | https://msc.fema.gov/portal/advanceSearch. | Apr. 24, 2020 | 480586
Tarrant | City of Fort Worth (19-06-3050P). | The Honorable Betsy Price, Mayor, City of Fort Worth, 200 Texas Street, Fort Worth, TX 76102. | Transportation and Public Works Department, 200 Texas Street, Fort Worth, TX 76102. | https://msc.fema.gov/portal/advanceSearch. | Apr. 2, 2020 | 480596
Tarrant | City of Fort Worth (19-06-3260P). | The Honorable Betsy Price, Mayor, City of Fort Worth, 200 Texas Street, Fort Worth, TX 76102. | Transportation and Public Works Department, 200 Texas Street, Fort Worth, TX 76102. | https://msc.fema.gov/portal/advanceSearch. | Apr. 24, 2020 | 480596
Tarrant | City of Fort Worth (19-06-3526X). | The Honorable Betsy Price, Mayor, City of Fort Worth, 200 Texas Street, Fort Worth, TX 76102. | Transportation and Public Works Department, 200 Texas Street, Fort Worth, TX 76102. | https://msc.fema.gov/portal/advanceSearch. | Mar. 16, 2020 | 480596
Tarrant | City of Southlake (19-06-1227P). | The Honorable Laura Hill, Mayor, City of Southlake, 1400 Main Street, Suite 270, Southlake, TX 76092. | Public Works Department, 1400 Main Street, Southlake, TX 76092. | https://msc.fema.gov/portal/advanceSearch. | Apr. 27, 2020 | 480612
Virginia:
Independent City | City of Harrisonburg (19-03-1517P). | The Honorable Deanna R. Reed, Mayor, City of Harrisonburg, 409 South Main Street, Harrisonburg, VA 22801. | City Hall, 409 South Main Street, Harrisonburg, VA 22801. | https://msc.fema.gov/portal/advanceSearch. | Mar. 26, 2020 | 510076
Loudoun | Town of Leesburg (20-03-0036P). | The Honorable Kelly Burk, Mayor, Town of Leesburg, 25 West Market Street, Leesburg, VA 20176. | Town Hall, 25 West Market Street, Leesburg, VA 20176. | https://msc.fema.gov/portal/advanceSearch. | Apr. 13, 2020 | 510091

[FR Doc. 2020-01372 Filed 1-27-20; 8:45 am]

BILLING CODE 9110-12-P